DEPARTMENT OF VETERANS AFFAIRS

[OMB Control No. 2900-0727]

Agency Information Collection (Survey of Post-Deployment Adjustment Among OEF and OIF Veterans) Activity Under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden and includes the actual data collection instrument.

DATES: Comments must be submitted on or before March 12, 2012.

ADDRESSES: Submit written comments on the collection of information through www.Regulations.gov; or to VA's OMB Desk Officer, OMB Human Resources and Housing Branch, New Executive Office Building, Room 10235, Washington, DC 20503, (202) 395-7316. Please refer to “OMB Control No. 2900-0727” in any correspondence.

FOR FURTHER INFORMATION CONTACT: Denise McLamb, Enterprise Records Service (005R1B), Department of Veterans Affairs, 810 Vermont Avenue NW., Washington, DC 20420, (202) 632-7479, fax (202) 273-0487 or email denise.mclamb@mail.va.gov. Please refer to “OMB Control No. 2900-0727.”

SUPPLEMENTARY INFORMATION:

Title: Survey of Post-Deployment Adjustment Among OEF and OIF Veterans, VA Form 10-21089.

OMB Control Number: 2900-0727.

Type of Review: Extension of a currently approved collection.

Abstracts: The data collected on VA Form 10-21089 will be used to access health conditions, occupational, family and social adjustment and functioning of Veterans who were deployed to Afghanistan and/or Iraq. The goal is to identify the gender-specific treatment needs of Operation Enduring Freedom (OEF) and Operation Iraqi Freedom (OIF) Veterans with an emphasis on the needs of female Veterans who experienced war zone stressor beyond traditional combat and sexual trauma during deployment. VA will use the data to identify how homecoming experiences (healthcare, relationship and parenting readjustment) differently affect male and female Veterans.

An agency may not conduct or sponsor, and a person is not required to respond to a collection of information unless it displays a currently valid OMB control number. The Federal Register Notice with a 60-day comment period soliciting comments on this collection of information was published on November 22, 2011, at pages 72242-72243.

Affected Public: Individuals or households.

Estimated Annual Burden: 1,333 hours.

Estimated Average Burden per Respondent: 20 minutes.

Frequency of Response: On occasion.

Estimated Number of Respondents: 4,000.

Dated: February 6, 2012.
By direction of the Secretary.
Denise McLamb,
Program Analyst, Enterprise Records Service.

[FR Doc. 2012-3069 Filed 2-9-12; 8:45 am]

BILLING CODE 8320-01-P